DEPARTMENT OF COMMERCE

National Oceanic and Atmospheric Administration

RIN 0648-XA265

Marine Fisheries Advisory Committee

AGENCY: National Marine Fisheries Service (NMFS), National Oceanic and Atmospheric Administration (NOAA), Commerce.

ACTION: Notice of open public meeting.

SUMMARY: This notice sets forth the schedule and proposed agenda of a forthcoming meeting of the Marine Fisheries Advisory Committee (MAFAC). The members will discuss and provide advice on issues outlined in the agenda below.

DATES: The meeting is scheduled for March 30, 2011, 2-3:30 p.m., Eastern Daylight Time.

ADDRESSES: Conference call. Public access is available at SSMC3, Room 14836, 1315 East-West Highway, Silver Spring, MD 20910.

FOR FURTHER INFORMATION CONTACT: Heidi Lovett, (301) 713-9070 x-118; e-mail: Heidi.Lovett@noaa.gov.

SUPPLEMENTARY INFORMATION: The MAFAC was established by the Secretary of Commerce (Secretary), and, since 1971, advises the Secretary on all living marine resource matters that are the responsibility of the Department of Commerce. The complete charter and other information are located online at http://www.nmfs.noaa.gov/ocs/mafac/.

Matters To Be Considered

This meeting is convening to discuss and consider recommendations of the MAFAC Commerce Subcommittee on the Department of Commerce and NOAA complementary draft national aquaculture policies that support sustainable marine aquaculture in the United States. This agenda is subject to change.

Dated: March 11, 2011.
Eric C. Schwaab,
Assistant Administrator for Fisheries, National Marine Fisheries Service.

[FR Doc. 2011-6153 Filed 3-15-11; 8:45 am]

BILLING CODE 3510-22-P